DEPARTMENT OF THE INTERIOR

Bureau of Indian Affairs

[256A2100DD/AAKC001030/A0A501010.999900]

Indian Gaming; Approval by operation of Law Tribal-State Class III Gaming Compacts in the State of California

AGENCY: Bureau of Indian Affairs, Interior.

ACTION: Notice.

SUMMARY: This notice announces the approval by operation of law of Tribal-State gaming compacts (Compacts) governing the operation and regulation of class III gaming activities between the State of California and the Campo Band of Diegueno Mission Indians of the Campo Indian Reservation, California; Elem Indian Colony of Pomo Indians of the Sulphur Bank Rancheria, California; La Posta Band of Diegueno Mission Indians of the La Posta Indian Reservation, California; Table Mountain Rancheria, Timbisha Shoshone Tribe; Tule River Indian Tribe of the Tule River Reservation, California.

DATES: The Compacts takes effect on December 26, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: The Indian Gaming Regulatory Act of 1988, 25 U.S.C. 2701 et seq., (IGRA) provides the Secretary of the Interior (Secretary) with 45 days to review and approve or disapprove any Tribal-State compact governing the conduct of class III gaming activity on the Tribe's Indian lands. See 25 U.S.C. 2710(d)(8). If the Secretary does not approve or disapprove a Tribal-State compact within the 45 days, IGRA provides the Tribal-State compact is considered to have been approved by the Secretary, but only to the extent the compact is consistent with IGRA. See 25 U.S.C. 2710(d)(8)(D). The IGRA also requires the Secretary to publish a notice in the Federal Register of the approved Tribal-State compacts for the purpose of engaging in Class III gaming activities on Indian lands. See 25 U.S.C. 2710(d)(8)(D). The Department's regulations at 25 CFR 293.4 require all compacts and amendments to be reviewed and approved by the Secretary prior to taking effect.

The Secretary took no action on the Compacts between the State of California and the Campo Band of Diegueno Mission Indians of the Campo Indian Reservation, California; the Elem Indian Colony of Pomo Indians of the Sulphur Bank Rancheria, California, the La Posta Band of Diegueno Mission Indians of the La Posta Indian Reservation, California; the Table Mountain Rancheria; the Timbisha Shoshone Tribe; and the Tule River Indian Tribe of the Tule River Reservation, California, within the 45-day statutory review period. Therefore, the Compacts are considered to have been approved, but only to the extent they are consistent with IGRA. See 25 U.S.C. 2710(d)(8)(C).

Bryan Newland,
Assistant Secretary—Indian Affairs.

[FR Doc. 2024-30744 Filed 12-23-24; 8:45 am]

BILLING CODE 4337-15-P